DEPARTMENT OF ENERGY

Federal Energy Regulatory Commission

[Docket Nos. CP19-491-000, PF17-10-000]

National Fuel Gas Supply Corporation; Notice of Application

Take notice that on July 18, 2019, National Fuel Gas Supply Corporation (National Fuel), 6363 Main Street, Williamsville, New York 14221, filed an application in Docket No. CP19-491-000 pursuant to Sections 7(b) and 7(c) of the Natural Gas Act and Part 157 of the Commission's Regulations, for a Certificate of Public Convenience and Necessity to construct and operate its FM100 Project. The FM100 Project would modernize a portion of National Fuel's existing pipeline system and create 330,000 dekatherms per day of additional transportation capacity, all as more fully described in the application which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, National Fuel seeks authorization for the: (1) Construction of about 29.5 miles of new 20-inch-diameter pipeline (Line YM58) in McKean and Potter Counties, Pennsylvania; (2) construction of about 1.4 miles of 24-inch-diameter pipeline loop (Line YM224 Loop) in Potter County, Pennsylvania; (3) construction of about 0.4 miles of 12-inch-diameter pipeline (Line KL Extension) in McKean County, Pennsylvania; (4) construction of the new Marvindale Compressor Station (up to 15,165 horsepower) in McKean County, Pennsylvania; (5) construction of the new Tamarack Compressor Station (up to 22,220 hp) in Clinton County, Pennsylvania; (6) modification of the existing Leidy M&R Station in Leidy Township, Clinton County, Pennsylvania; (7) abandonment in place of about 44.9 miles of 12-inch-diameter pipeline (Line FM100) and appurtenances in Clearfield, Elk, Cameron and Potter Counties, Pennsylvania; (8) abandonment by removal of the existing Costello Compression Station in Potter County, Pennsylvania; (9) abandonment by removal of the existing Station WHP-MS-4317X in Potter County, Pennsylvania; (10) construction of the Marvindale Interconnect in McKean County, Pennsylvania; (11) construction of the Carpenter Hollow over-pressurization protection station in Potter County, Pennsylvania; and (12) construction of associated facilities, such as mainline valves and other appurtenant facilities. The estimated cost of the Project is $279 million.

The additional transportation capacity created by the FM100 Project is fully subscribed to Transcontinental Gas Pipeline Company, LLC (Transco) under a proposed capacity lease which would provide gas supply from production areas of Pennsylvania to Transco's Leidy South Project. Transco will be filing a companion application for its Leidy South Project.

Any questions regarding this application should be directed to Jeffrey Same, Attorney for National Fuel, 6363 Main Street, Williamsville, New York 14221, by telephone at (716) 857-7507, by fax at (716) 857-7206, or by emailing samej@natfuel.com; or Meghan Corcoran, Senior Attorney, National Fuel Gas Supply Corporation, 6363 Main Street, Williamsville, New York 14221-5887, by telephone at (716) 857-7064, by fax at (716) 857-7206, or by email at corcoranm@natfuel.com.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made in the proceeding with the Commission and must provide a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, and will be notified of any meetings associated with the Commission's environmental review process. Environmental commentors will not be required to serve copies of filed documents on all other parties. However, the non-party commentors will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to show good cause why the time limitation should be waived, and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the eFiling link at http://www.ferc.gov. Persons unable to file electronically should submit an original and 3 copies of the protest or intervention to the Federal Energy regulatory Commission, 888 First Street NE, Washington, DC 20426.

Comment Date: 5:00 p.m. Eastern Time on August 21, 2019.

Dated: July 31, 2019.
Kimberly D. Bose,
Secretary.

[FR Doc. 2019-16993 Filed 8-7-19; 8:45 am]

BILLING CODE 6717-01-P